INTERNATIONAL TRADE COMMISSION

[Investigation Nos. 701-TA-679 and 731-TA-1585 (Final)]

Sodium Nitrite From India; Supplemental Schedule for the Final Phase of Countervailing and Antidumping Duty Investigations

AGENCY: United States International Trade Commission.

ACTION: Notice.

DATES: January 6, 2023.

FOR FURTHER INFORMATION CONTACT: Peter Stebbins ((202) 205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective April 15, 2022, the Commission established a general schedule for the conduct of the final phase of its countervailing and antidumping duty investigations on sodium nitrite from India and Russia (87 FR 23567, April 20, 2022), following a preliminary determination by the U.S. Department of Commerce (“Commerce”) that imports of sodium nitrite from Russia were being subsidized by the government of Russia (87 FR 22504, April 15, 2022). Notice of the scheduling of the final phase of the Commission's investigations and of a public hearing to be held in connection therewith was given by posting copies of the notice in the Office of the Secretary, U.S. International Trade Commission, Washington, DC, and by publishing the notice in the Federal Register on April 20, 2022 (87 FR 23567). In light of the restrictions on access to the Commission building due to the COVID-19 pandemic, the Commission conducted its hearing through video conference on June 21, 2022. All persons who requested the opportunity were permitted to participate.

Commerce issued a final affirmative countervailing duty determination with respect to sodium nitrite from Russia (87 FR 38375, June 28, 2022). The Commission subsequently issued its final determination that an industry in the United States was materially injured by reason of imports of sodium nitrite from Russia provided for in subheading 2834.10.10 of the Harmonized Tariff Schedule of the United States (“HTSUS”) that have been found by Commerce to be subsidized by the government of Russia (87 FR 51141, August 19, 2022).

Commerce issued a final affirmative antidumping duty determination with respect to imports of sodium nitrite from Russia (87 FR 55781, September 12, 2022). The Commission subsequently issued its final determination that an industry in the United States was materially injured by reason of imports of sodium nitrite from Russia provided for in subheading 2834.10.10 of the HTSUS that have been found by Commerce to be sold in the United States at less than fair value (87 FR 66323, November 3, 2022).

Commerce issued final affirmative countervailing and antidumping duty determinations with respect to imports of sodium nitrite from India (88 FR 1042, January 6, 2023; and 88 FR 1052, January 6, 2023). Accordingly, the Commission currently is issuing a supplemental schedule for its countervailing and antidumping duty investigations on imports of sodium nitrite from India.

This supplemental schedule is as follows: the deadline for filing supplemental party comments on Commerce's final countervailing and antidumping duty determinations is Wednesday, January 18, 2023. Supplemental party comments may address only Commerce's final countervailing and antidumping duty determinations regarding imports of sodium nitrite from India. These supplemental final comments may not contain new factual information and may not exceed five (5) pages in length. The supplemental staff report in the final phase of the current investigations will be placed in the nonpublic record on Wednesday, February 1, 2023, and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: These investigations are being conducted under authority of title VII of the Tariff Act of 1930; this notice is published pursuant to section 207.21 of the Commission's rules.

By order of the Commission.
Issued: January 13, 2023.
Jessica Mullan,
Acting Supervisory Attorney.

[FR Doc. 2023-00984 Filed 1-18-23; 8:45 am]

BILLING CODE 7020-02-P